DEPARTMENT OF HOUSING AND URBAN DEVELOPMENT

[Docket No. FR-5218-N-02]

Notice of Funding Availability (NOFA) for the Section 202 Demonstration Pre-Development Grant Program: Extension of Application Due Date

AGENCY: Office of the Assistant Secretary for Housing—Federal Housing Commissioner, HUD.

ACTION: Notice of Funding Availability (NOFA), Extension of Application Due Date.

SUMMARY: On October 10, 2008, HUD published the NOFA for the Section 202 Demonstration Pre-Development Grant Program. Through this NOFA, HUD is making available approximately $20 million for pre-development grants to private nonprofit organizations and consumer cooperatives in connection with the development of housing under the Section 202 Supportive Housing for the Elderly program. The October 10, 2008 publication established December 16, 2008 as the deadline date for the submission of applications. Today's Federal Register publication extends the deadline date for the submission of applications to February 18, 2009. HUD is also extending the deadline for applicants to submit requests for waivers from the electronic application submission requirements to February 11, 2009.

DATES: The application deadline date for the Section 202 Demonstration Pre-Development Grant Program is February 18, 2009.

FOR FURTHER INFORMATION CONTACT: Individuals may direct questions regarding the Section 202 Demonstration Pre-Development Grant Program to the individuals listed in Section VII of the October 10, 2008, Section 202 Demonstration Pre-Development Grant Program NOFA. For technical assistance in downloading and submitting an application package through http://www.grants.gov/applicants/apply_for_grants.jsp, contact the Grants.gov Help Desk at 1-800-518-GRANTS, or by sending an e-mail to support@grants.gov.

SUPPLEMENTARY INFORMATION: On October 10, 2008 (73 FR 60312), HUD published its NOFA for the Section 202 Demonstration Pre-Development Grant Program, and established December 16, 2008 as the deadline date for the submission of applications. Through the NOFA, HUD is making available approximately $20 million for pre-development grants to private nonprofit organizations and consumer cooperatives in connection with the development of housing under the Section 202 Supportive Housing for the Elderly program. HUD stated in the October 10, 2008, NOFA that funding awards under the Section 202 Demonstration Pre-Development Grant program would be restricted to applicants selected for Fund Reservation Awards under the FY2008 Section 202 Supportive Housing for the Elderly program.

Today's Federal Register publication extends the deadline date for the submission of applications for the Section 202 Demonstration Pre-Development Grant program to February 18, 2009. Similarly, HUD extending the deadline for applicants to submit requests for waivers from the electronic application submission requirements to February 11, 2009. HUD is extending the application submission deadline date to permit it to complete selections under FY2008 Section 202 Supportive Housing for the Elderly program. This extension will ensure that ineligible Section 202 applicants need not go through the expense of preparing and submitting an application for funding under the Section 202 Demonstration Pre-Development Grant program if they are not eligible to receive this funding.

Deadline for Applications

The application deadline date for the Section 202 Demonstration Pre-Development Grant Program is February 18, 2009. All applications must be received and validated by Grants.gov no later than 11:59:59 p.m. Eastern Time on the application deadline date. Refer to the General Section of the SuperNOFA published on March 19, 2008 (72 FR 14882), the FY2008 SuperNOFA published on May 12, 2008 (72 FR 27032), the Notice of HUD's FY2008 SuperNOFA for HUD's Discretionary Programs; Correction for Section 202 and Section 811 Programs published on June 9, 2008 (72 FR 32592), and Section IV of the Section 202 Demonstration Pre-Development Grant Program NOFA published on October 10, 2008 (72 FR 60312), for further information about application, submission, and timely receipt requirements.

Dated: December 5, 2008.
Brian D. Montgomery,
Assistant Secretary for Housing—Federal Housing Commissioner.

[FR Doc. E8-29425 Filed 12-11-08; 8:45 am]

BILLING CODE 4210-67-P